ENVIRONMENTAL PROTECTION AGENCY

[EPA-HQ-OPA-2007-0042; FRL-9171-5]

Agency Information Collection Activities; Submission to OMB for Review and Approval; Comment Request; National Oil and Hazardous Substances Pollution Contingency Plans (Renewal); EPA ICR No. 1664.07, OMB Control No. 2050-0141

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before August 5, 2010.

ADDRESSES: Submit your comments, referencing Docket ID No. EPA-HQ-OPA-2007-0042 to (1) EPA online using http://www.regulations.gov (our preferred method), by e-mail to superfund.docket@epa.gov or by mail to: EPA Docket Center, Environmental Protection Agency, U.S. Environmental Protection Agency, EPA Docket Center, Superfund Docket, Mailcode: 28221T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: William “Nick” Nichols, Office of Emergency Management, (5104A), Environmental Protection Agency, 1200 Pennsylvania Ave., NW., Washington, DC 20460; telephone number: 202-564-1970; fax number: 202-564-2625; e-mail address: nichols.nick@epa.gov.

SUPPLEMENTARY INFORMATION: EPA has submitted the following ICR to OMB for review and approval according to the procedures prescribed in 5 CFR 1320.12. On April 14, 2010 (75 FR 19386) EPA sought comments on this ICR pursuant to 5 CFR 1320.8(d). EPA received no comments. Any additional comments on this ICR should be submitted to EPA and OMB within 30 days of this notice.

EPA has established a public docket for this ICR under Docket ID No. EPA-HQ-OPA-2007-0042, which is available for online viewing at http://www.regulations.gov, or in person viewing at the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744, and the telephone number for the Superfund Docket is 202-566-0276.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI), or other information whose public disclosure is restricted by statute. For further information about the electronic docket, go to http://www.regulations.gov.

Title: National Oil and Hazardous Substances Pollution Contingency Plans (Renewal).

ICR Numbers: EPA ICR No. Renewal ICR 1664.07, OMB Control No. 2050-0141.

ICR Status: This ICR is scheduled to expire on 08/31/2010. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: Section 311(d)(2)(G) of the Clean Water Act (CWA), requires a Product Schedule (the Schedule), identifying “dispersants, other chemicals, and other spill mitigating devices and substances, if any, that may be used in carrying out” the National Contingency Plan (NCP). The authority of the President to implement the CWA is currently delegated to EPA by Executive Order 12777 (56 FR 54757, October 18, 1991). The use of dispersants, other chemical agents, and biological additives to respond to oil spills in U.S. waters is governed by Subpart J of the NCP (40 CFR 300.900).

To place a product on the Schedule, Subpart J requires that a product manufacturer conduct specific toxicity and effectiveness tests and submit the corresponding technical product data and other required information to the EPA Product Schedule Manager in the Office of Emergency Management (OEM). EPA has established an effectiveness threshold for listing dispersants (40 CFR 300.920(a)(2)). Only those dispersants that meet or exceed the established threshold will be listed on the Schedule. In addition, at 40 CFR 300.915(d), EPA requires respondents to test bioremediation agents for effectiveness, using the testing protocol contained in Appendix C to part 300. The Bioremediation Agent Effectiveness Test is used to compare the effectiveness of different bioremediation agents. The objective of the effectiveness testing protocol is to provide empirical laboratory evidence that evaluates a bioremediation agent's ability to enhance biodegradation compared to the degradation due to the natural population of oil degrading microbes.

Collection and submission to EPA of the toxicity and effectiveness tests and technical product data is mandatory if a manufacturer wants to place a product on the Schedule. All information is typically submitted on paper however, once a company contacts EPA, the Product Schedule Manager can allow some data and information to be submitted electronically. At 40 CFR 300.920(c), respondents may assert that certain information in the technical product data submissions is confidential business information. EPA will handle such claims pursuant to the provisions in 40 CFR part 2, subpart B. Such information must be submitted separately from non-confidential information, clearly identified, and clearly marked “Confidential Business Information.” If the applicant fails to make such a claim at the time of submittal, EPA may make the information available to the public without further notice.

Burden Statement: The annual public reporting and recordkeeping burden for this collection of information is estimated to average 28 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Entities potentially affected by this action include, but are not limited to, manufacturers of bioremediation agents, dispersants, surface collecting agents, surface washing agents and other chemical agents and biological additives used as countermeasures against oil spills.

Estimated Number of Respondents: 14 per year.

Frequency of Response: On occasion.

Estimated Total Annual Hour Burden: 390.

Estimated Total Annual Cost: $100,493 includes $82,800 annualized capital or operation & maintenance costs.

Changes in the Estimates: There is no change of hours in the total estimated respondent burden compared with that identified in the ICR currently approved by OMB.

Dated: June 29, 2010.
John Moses,
Director, Collection Strategies Division.

[FR Doc. 2010-16322 Filed 7-2-10; 8:45 am]

BILLING CODE 6560-50-P